DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR part 236, as detailed below.

Docket Number: FRA-2006-25630.

Applicant: Union Pacific Railroad, Mr. W.E. Wimmer, Vice President Engineering, 1400 Douglas Street, Stop 0910, Omaha, Nebraska 68179.

The Union Pacific Railroad Company (UP) has requested that FRA review its September 20, 2006, decision to deny the UP waiver request identified as Docket Number FRA-2006-25630. UP seeks approval of the proposed petition for waiver from certain portions of 49 CFR Parts 234 and 236 pertaining to monthly inspections, observations, and tests. UP requests that rules presently reading “at least once each month” be modified to read “at least once each calendar month with at least 20 calendar days interval between” the applicable inspection, observation, or test.

The reason UP has given for the proposed changes is that its signal department does not have dedicated inspectors to conduct monthly inspections. UP points out that the nature of signal business is better served when the person doing the inspections is also the person who does the maintenance. While responsible for most of their signal inspections, UP's signal maintainers also work in support of other engineering groups and need to participate in rail replacement, switch component renewal, road crossing work, and a variety of other track-related activities. Given this support-role requirement, UP says it is very difficult for its signal maintainers to commit specific days of the month to complete each of their required inspections, rendering the need to be able to move their scheduled inspections a few days ahead or back.

Any interested party desiring to protest the granting of an application shall set forth specifically the grounds upon which the protest is made, including a concise statement of the interest of the party in the proceeding. Additionally, one copy of the protest shall be furnished to the applicant at the address listed above.

FRA expects to be able to determine these matters without an oral hearing. However, if a specific request for an oral hearing is accompanied by a showing that the party is unable to adequately present his or her position by written statements, an application may be set for public hearing.

All communications concerning this proceeding should be identified by Docket Number FRA-2006-25630 and may be submitted by one of the following methods:

• Web site: http://dms.dot.gov. Follow the instructions for submitting comments on the DOT electronic site;

• Fax: 202-493-2251;

• Mail: Docket Management Facility, U.S. Department of Transportation, 1200 New Jersey Avenue, SE., West Building Ground Floor, Room W12-140, Washington, DC 20590; or

• Hand Delivery: Room W12-140 of the U.S. Department of Transportation, West Building Ground Floor, 1200 New Jersey Avenue, SE., Washington, DC, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Issued in Washington, DC, on August 24, 2007.
Grady C. Cothen, Jr.,
Deputy Associate Administrator for Safety Standards and Program Development.

[FR Doc. E7-17189 Filed 8-29-07; 8:45 am]

BILLING CODE 4910-06-P